DEPARTMENT OF HOUSING AND URBAN DEVELOPMENT

[Docket No. FR-5601-N-16]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COE: Mr. Scott Whiteford, Army Corps of Engineers, Real Estate, CEMP-CR, 441 G Street NW., Washington, DC 20314; (202) 761-5542; COAST GUARD: Commandant, United States Coast Guard, Attn: Jennifer Stomber, 2100 Second St. SW., Stop 7901, Washington, DC 20593-0001; (202) 475-5609; GSA: Mr. Gordon Creed, Acting Deputy Assistant Commissioner, General Services Administration, Office of Property Disposal, 18th & F Streets NW., Washington, DC 20405; (202) 501-0084; INTERIOR: Mr. Michael Wright, Acquisition & Property Management, Department of the Interior, 1801 Pennsylvania Ave. NW., 4th Floor, Washington, DC 20006: (202) 208-5399; NAVY: Mr. Steve Matteo, Department of the Navy, Asset Management Division, Naval Facilities Engineering Command, Washington Navy Yard, 1330 Patterson Ave. SW., Suite 1000, Washington, DC 20374; (202) 685-9426 (These are not toll-free numbers).

Dated: April 19, 2012.
Mark R. Johnston,
Deputy Assistant Secretary for Special Needs.

TITLE V, FEDERAL SURPLUS PROPERTY PROGRAM FEDERAL REGISTER REPORT FOR 04/27/2012

Suitable/Available Properties

Building

California

Bldg. R5

Naval Air Station, North Island

San Diego CA 92135

Landholding Agency: Navy

Property Number: 77201220004

Status: Excess

Comments: Off-site removal only; 720 sf.; current use: training classroom/admin. office; very poor conditions; needs extensive repairs; secured area; transferee will need prior approval to access property

Kentucky

Rough River Lake Project

Various Campgrounds

Falls Rough KY

Landholding Agency: COE

Property Number: 31201220003

Status: Excess

Comments: Off-site removal only; 96 sf. for ea. trash bin

Missouri

W. Hwy Vault Toilet

US Army COE

Smithville MO 64089

Landholding Agency: COE

Property Number: 31201220004

Status: Underutilized

Comments: Available for off-site removal; 100 sf.; current use: toilet; need extensive repairs

Nebraska

Decatur Microwave Repeater

Off County Rd. 31

Decatur NE 68020

Landholding Agency: GSA

Property Number: 54201220001

Status: Surplus

GSA Number: 7-D-NE-0535

Comments: 80 sf. for bldg.; current use (for bldg.): support bldg; 2.41 acres of land; property is fenced w/gate

New Mexico

Two River Project

US Army COE

Rosewell NM 88201

Landholding Agency: COE

Property Number: 31201220002

Status: Underutilized

Directions: Vault toilet w/flat roof, two rivers project

Comments: Available for off-site removal; 24′ 8″x10′8; current use: restroom; asbestos identified; public need to contact project personnal to gain access; contact agency for more details

Oklahoma

Robert S. Kerr Lake

HC 61 Box 238

Sallisaw OK 74955

Landholding Agency: COE

Property Number: 31201220005

Status: Unutilized

Comments: Off-site removal only; 704 sf.; current use: bathroom; needs repairs

Virginia

B-3247

Marine Corp Base

Quantico VA 22134

Landholding Agency: Navy

Property Number: 77201220003

Status: Unutilized

Comments: Off-site removal only (may be difficult to relocate due to size; 37,560 sf.; current use: prison; asbestos identified; need remediation; contacct Navy for more details

Washington

Restroom

Bennington Lake

Walla Walla WA 99362

Landholding Agency: COE

Property Number: 31201220001

Status: Unutilized

Comments: Off-site removal only; >250 sf.; current use: restroom; need repairs

Restroom

Mill Creek Project

Walla Walla WA 99362

Landholding Agency: COE

Property Number: 31201220006

Status: Unutilized

Comments: Off-site removal only; >140 sf.; current use: L restroom; need repairs

Suitable/Available Properties

Land

Idaho

7.73 Acres

Bureau of Reclamation

Hazelton ID 83335

Landholding Agency: Interior

Property Number: 61201220001

Status: Unutilized

Comments: Parcel was in agricultural production three yrs. ago; now reseeded in native grasses

Illinois

Former Outer Marker Compass

2651 West 83rd Place

Chicago IL

Landholding Agency: GSA

Property Number: 54201220002

Status: Excess

GSA Number: 1-U-I-797

Comments: .22 acres; current use: airport outermaker

Oklahoma

Keystone Lake

USACE Tract No. 2424

Keystone OK

Landholding Agency: COE

Property Number: 31201220007

Status: Excess

Comments: .013 acres; current use: civil works land; contact COE for further conditions

Unsuitable Properties

Building

California

5 Bldgs.

Marine Corps Air Station

San Diego CA

Landholding Agency: Navy

Property Number: 77201220001

Status: Excess

Directions: 9404,9527,9528,9529,9530

Comments: Nat'l security concerns; due to anti-terrorism/force protection, only military personnel; public access denied & no alternative method to gain access w/out comprising security

Reasons: Secured Area

Bldg. 6014

Marine Corps Air Station

San Diego CA

Landholding Agency: Navy

Property Number: 77201220002

Status: Excess

Comments: Nat'l security concerns; due to anti-terrorism/force protection, only military personnel; public access denied & no alternative method to gain access w/out comprising security

Reasons: Secured Area

Florida

St. Peterburg Admin. Bldg.

600 8th Ave.

St. Peterburg FL

Landholding Agency: Coast Guard

Property Number: 88201220001

Status: Unutilized

Comments: Nat'l security concerns; due to anti-terrorism/force protection, only military personnel; public access denied & no alternative method to gain access w/out comprising security

Reasons: Secured Area

New Jersey

Blake House/Haney Cabin

Nat'l Park Service

Walpack NJ 07881

Landholding Agency: Interior

Property Number: 61201220002

Status: Excess

Directions: 2 buildings

Comments: Documented deficiencies; Blake: extensive roof damage/foundation weaknesses; Haney: cabin has collapse; unfeasible to relocate either property; any attempt will result in properties crumbling

Reasons: Extensive deterioration

Hamilton/Minard House

Nat'l Park Sevice

Hardwick NJ 07825

Landholding Agency: Interior

Property Number: 61201220003

Status: Excess

Directions: 2 Building

Comments: Documented deficiencies; severely weak foundation; unfeasible to relocate; any attempt will result in the complete collapse of properties

Reasons: Extensive deterioration

Becker House

Nat'l Park Service

Montague NJ 07827

Landholding Agency: Interior

Property Number: 61201220004

Status: Excess

Comments: Documented deficiencies; severe roof and foundation weaknesses; unfeasible to relocate and any attempt to relocate will result in complete collapse of property

Reasons: Extensive deterioration

Stewart House

Nat'l Park Service

Sandyston NJ 07826

Landholding Agency: Interior

Property Number: 61201220005

Status: Excess

Comments: Documented deficiencies; severely weak foundation; unfeasible to relocate; any attempt will result in the complete collapse of properties

Reasons: Extensive deterioration

[FR Doc. 2012-9856 Filed 4-26-12; 8:45 am]

BILLING CODE 4210-67-P